DEPARTMENT OF HOMELAND SECURITY

Federal Emergency Management Agency

44 CFR Part 65

[Docket ID FEMA-2010-0003; Internal Agency Docket No. FEMA-B-1124]

Changes in Flood Elevation Determinations

AGENCY: Federal Emergency Management Agency, DHS.

ACTION: Interim rule.

SUMMARY: This interim rule lists communities where modification of the Base (1% annual-chance) Flood Elevations (BFEs) is appropriate because of new scientific or technical data. New flood insurance premium rates will be calculated from the modified BFEs for new buildings and their contents.

DATES: These modified BFEs are currently in effect on the dates listed in the table below and revise the Flood Insurance Rate Maps (FIRMs) in effect prior to this determination for the listed communities.

From the date of the second publication of these changes in a newspaper of local circulation, any person has ninety (90) days in which to request through the community that the Deputy Federal Insurance and Mitigation Administrator reconsider the changes. The modified BFEs may be changed during the 90-day period.

ADDRESSES: The modified BFEs for each community are available for inspection at the office of the Chief Executive Officer of each community. The respective addresses are listed in the table below.

FOR FURTHER INFORMATION CONTACT: Kevin C. Long, Acting Chief, Engineering Management Branch, Mitigation Directorate, Federal Emergency Management Agency, 500 C Street SW., Washington, DC 20472, (202) 646-2820, or (e-mail) kevin.long@dhs.gov.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required either to adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own or pursuant to policies established by other Federal, State, or regional entities. The changes in BFEs are in accordance with 44 CFR 65.4.

National Environmental Policy Act. This interim rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This interim rule is not a significant regulatory action under the criteria of section 3(f) of Executive Order 12866 of September 30, 1993, Regulatory Planning and Review, 58 FR 51735.

Executive Order 13132, Federalism. This interim rule involves no policies that have federalism implications under Executive Order 13132, Federalism.

Executive Order 12988, Civil Justice Reform. This interim rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community No.
Alabama: Madison | Unincorporated areas of Madison County (08-04-4212P) | March 26, 2010; April 2, 2010; Madison County Record | The Honorable Mike Gillespie, Chairman, Madison County Commission, 100 Northside Square, Huntsville, AL 35801 | August 2, 2010 | 010151
Arizona: Yavapai | Unincorporated areas of Yavapai County (09-09-0953P) | April 14, 2010; April 21, 2010; Prescott Daily Courier | The Honorable Chip Davis, Chairman, Yavapai County Board of Supervisors, 1015 Fair Street, Prescott, AZ 86305 | August 19, 2010 | 040093
California:
Sonoma | City of Healdsburg (09-09-2125P) | April 14, 2010; April 21, 2010; The Press Democrat | The Honorable Jim Wood, Mayor, City of Healdsburg, 401 Grove Street, Healdsburg, CA 95448 | August 19, 2010 | 060378
Sonoma | Unincorporated areas of Sonoma County (09-09-2125P) | April 14, 2010; April 21, 2010; The Press Democrat | The Honorable Valerie Brown, Chair, Sonoma County Board of Supervisors, 575 Administration Drive, Room 100A, Santa Rosa, CA 95403 | August 19, 2010 | 060375
Colorado:
Arapahoe | Unincorporated areas of Arapahoe County (10-08-0186P) | April 9, 2010; April 16, 2010; The Denver Post | The Honorable Rod Bockenfeld, Chairman, Arapahoe County Board of Commissioners, 5334 South Prince Street, Littleton, CO 80166 | August 16, 2010 | 080011
El Paso | City of Colorado Springs (10-08-0386P) | April 14, 2010; April 21, 2010; The Gazette | The Honorable Lionel Rivera, Mayor, City of Colorado Springs, P.O. Box 1575, Colorado Springs, CO 80901 | August 19, 2010 | 080060
Florida: Lee | Unincorporated areas of Lee County (10-04-2746P) | April 16, 2010; April 23, 2010; The News-Press | The Honorable Tammy Hall, Chairperson, Lee County Board of Commissioners, P.O. Box 398, Fort Myers, FL 33902 | March 31, 2010 | 125124
Hawaii: Hawaii | Unincorporated areas of Hawaii County (09-09-1398P) | April 16, 2010; April 23, 2010; Hawaii Tribune-Herald | The Honorable William P. Kenoi, Mayor, Hawaii County, 25 Aupuni Street, Hilo, HI 96720 | August 23, 2010 | 155166
Illinois:
St. Clair | City of O'Fallon (07-05-2498P) | April 15, 2010; April 22, 2010; O'Fallon Progress | The Honorable Gary L. Graham, Mayor, City of O'Fallon, 255 South Lincoln Avenue, O'Fallon, IL 62269 | August 19, 2010 | 170633
St. Clair | Unincorporated areas of St. Clair County (07-05-2498P) | April 15, 2010; April 22, 2010; O'Fallon Progress | The Honorable Mark Kern, Chairman, St. Clair County Board, 10 Public Square, 5th Floor, Belleville, IL 62220 | August 19, 2010 | 170616
Nevada:
Washoe | City of Reno (09-09-3152P) | April 6, 2010; April 13, 2010; Reno Gazette-Journal | The Honorable Robert Cashell, Mayor, City of Reno, P.O. Box 1900, Reno, NV 89505 | August 11, 2010 | 320020
Washoe | Unincorporated areas of Washoe County (09-09-3152P) | April 6, 2010; April 13, 2010; Reno Gazette-Journal | The Honorable David Humke, Chairman, Washoe County Board of Commissioners, P.O. Box 11130, Reno, NV 89520 | August 11, 2010 | 320019
New Mexico: Sandoval | City of Rio Rancho (10-06-0995P) | April 21, 2010; April 28, 2010; Rio Rancho Observer | The Honorable Thomas E. Swisstack, Mayor, City of Rio Rancho, 3200 Civic Center Circle Northeast, Rio Rancho, NM 87144 | August 26, 2010 | 350146
North Carolina:
Iredell | Town of Mooresville (09-04-7593P) | April 2, 2010; April 9, 2010; The Charlotte Observer & Mooresville Tribune | The Honorable Bill Thunberg, Mayor, Town of Mooresville, P.O. Box 878, Mooresville, NC 28115 | August 9, 2010 | 370314
Richmond | Unincorporated areas of Richmond County (09-04-8322P) | April 7, 2010; April 14, 2010; Richmond County Daily Journal | Mr. Kenneth R. Robinette, Chairman, Richmond County Board of Commissioners, P.O. Box 504, Rockingham, NC 28380 | August 12, 2010 | 370348
Stanly | Unincorporated areas of Stanly County (09-04-5837P) | March 25, 2010; April 1, 2010; Stanly News & Press | Mr. Tony M. Dennis, Stanly County Chairman, 1000 North 1st Street, Suite 13-B, Albemarle, NC 28001 | July 30, 2010 | 370361
Oklahoma: Tulsa | City of Sand Springs (10-06-0758P) | April 14, 2010; April 21, 2010; Sand Springs Leader | The Honorable Bob Walker, Mayor, City of Sand Springs, P.O. Box 338, Sand Springs, OK 74063 | March 31, 2010 | 400211
Tennessee:
Lincoln | Unincorporated areas of Lincoln County (08-04-4212P) | March 24, 2010; March 31, 2010; The Elk Valley Times | The Honorable Peggy G. Bevels, Mayor, Lincoln County, 112 Main Avenue South, Room 101, Fayetteville, TN 37334 | August 2, 2010 | 470104
Rutherford | City of Murfreesboro (09-04-3567P) | April 2, 2010; April 9, 2010; Daily News Journal | The Honorable Tommy Bragg, Mayor, City of Murfreesboro, 111 West Vine Street, Murfreesboro, TN 37133 | April 23, 2010 | 470168
Rutherford | Unincorporated areas of Rutherford County (09-04-3567P) | April 2, 2010; April 9, 2010; Daily News Journal | The Honorable Ernest Burgess, Mayor, Rutherford County, County Courthouse Room 101, Murfreesboro, TN 37130 | April 23, 2010 | 470165
Texas:
Kerr | Unincorporated areas of Kerr County (09-06-3314P) | April 20, 2010; April 27, 2010; Kerrville Daily Times | The Honorable Pat Tinley, Kerr County Judge, 700 East Main Street, Kerrville, TX 78028 | August 25, 2010 | 480419
Montgomery | Unincorporated areas of Montgomery County (09-06-2479P) | April 14, 2010; April 21, 2010; The Courier | The Honorable Alan B. Sadler, Montgomery County Judge, 501 North Thompson Street, Suite 401, Conroe, TX 77301 | August 19, 2010 | 480483
Rockwall | City of Rockwall (10-06-0882X) | January 14, 2010; January 21, 2010; Dallas Morning News | The Honorable William Cecil, Mayor, City of Rockwall, 385 South Goliad Street, Rockwall, Texas 75087 | January 20, 2010 | 480547
Tarrant | City of Keller (09-06-2005P) | April 14, 2010; April 21, 2010; The Keller Citizen | The Honorable Pat McGrail, Mayor, City of Keller, 1100 Bear Creek Parkway, Keller, TX 76248 | August 19, 2010 | 480602
Webb | City of Laredo (09-06-1964P) | March 12, 2010; March 19, 2010; Laredo Morning Times | The Honorable Raul G. Salinas, Mayor, City of Laredo, 1110 Houston Street, Laredo, TX 78040 | February 26, 2010 | 480651.

(Catalog of Federal Domestic Assistance No. 97.022, “Flood Insurance.”)

Dated: June 11, 2010.
Sandra K. Knight,
Deputy Federal Insurance and Mitigation Administrator, Mitigation, Department of Homeland Security, Federal Emergency Management Agency.

[FR Doc. 2010-15231 Filed 6-22-10; 8:45 am]

BILLING CODE 9110-12-P